Proclamation 9192 of October 10, 2014

General Pulaski Memorial Day, 2014

By the President of the United States of America

A Proclamation

More than 200 years ago, Brigadier General Casimir Pulaski answered the call of our fledgling Nation as we sought to secure liberty and justice. A Polish-born leader, he fought and sacrificed his life for a country not fully his own. He understood that the promise of our new Nation was not about circumstance of birth, but rather a set of beliefs and unalienable rights. Today, we pay tribute to a hero of the American Revolutionary War, and we celebrate the contributions that generations of Polish-Americans have made to the country for whose independence Pulaski took up arms.

As a young man, Casimir Pulaski fought for Polish sovereignty, defending his homeland from foreign occupation with courage and bravery. After many years, his confederation was overpowered, and he was exiled to France where he met Benjamin Franklin. With Franklin, Pulaski discussed America's struggle to throw off the tyranny of an empire, and in 1777, Pulaski crossed the Atlantic to stand with a small band of patriots.

In America, Pulaski served with honor and distinction. During battle, he aided George Washington and—because of his leadership and skill on horseback—became known as the “Father of the American Cavalry.” But tragically in October of 1779, as Pulaski led his troops during the siege of Savannah, Georgia, he was mortally wounded. While he was not witness to the conclusion of the war, his memory is forever enshrined in the pages of its history.

Pulaski's life represents only one chapter in the Polish people's long and storied legacy of fighting for freedom. This year, we celebrated the 25th anniversary of an election where, for the first time, the people of Poland had a choice. The culmination of centuries of struggle, it marked the beginning of a new course for Poland—one that has ushered in the return of democracy and demonstrated the enduring strength of the ideals our two nations share. As we also recognize the 15th anniversary of Poland's membership in NATO, we are proud to call Poland one of our strongest and closest allies, and we are reminded that the blessings of liberty must be earned and renewed by every generation.

On General Pulaski Memorial Day, we reflect on the beginnings of our relationship with Poland. In the centuries since, Polish immigrants have sought the opportunities in America that Pulaski helped secure, and as they have, our nations' bonds of friendship have grown stronger. As we renew our commitment to honoring all those who fought for the freedom of our new Nation, let us resolve to stand with developing democracies around the world and with all people yearning to be free.

NOW, THEREFORE, I, BARACK OBAMA, President of the United States of America, by virtue of the authority vested in me by the Constitution and the laws of the United States, do hereby proclaim October 11, 2014, as General Pulaski Memorial Day. I encourage all Americans to commemorate this occasion with appropriate programs and activities paying tribute to Casimir Pulaski and honoring all those who defend the freedom of our Nation.

IN WITNESS WHEREOF, I have hereunto set my hand this tenth day of October, in the year of our Lord two thousand fourteen, and of the Independence of the United States of America the two hundred and thirty-ninth.

[FR Doc. 2014-24847

Filed 10-16-14; 8:45 am]

Billing code 3295-F5